DEPARTMENT OF THE TREASURY

Submission for OMB Review; Comment Request

June 11, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 19, 2002, to be assured of consideration.

Internal Revenue Service (IRS)

OMB Number: 1545-0256.

Form Number: IRS Forms 941c and 941cPR.

Type of Review: Extension.

Title: Supporting Statement to Correct Information (941c); and Planilla Para La Correccion de Informacion (941cPR).

Description: These forms are used by employers to correct previously reported FICA or income tax data. It may be used to support a credit or adjustment claimed on a current return for an error in a prior return period. The information is used to reconcile wages and taxes previously reported or used to support a claim for refund, credit, or adjustment of FICA or income tax.

Respondents: Business or other for-profit, Not-for-profit institutions, State, Local or Tribal Government.

Estimated Number of Respondents/Recordkeepers: 958,050.

Estimated Burden Hours Per Respondent/Recordkeeper:

Form | Hours per respondent
941c | 9 hrs., 12 min.
941cPR | 7 hrs., 44 min.

Frequency of Response: On occasion.

Estimated Total Reporting/Recordkeeping Burden: 8,729,307 hours.

Clearance Officer: Glenn Kirkland, Internal Revenue Service, Room 6411-03, 1111 Constitution Avenue, NW, Washington, DC 20224.

OMB Reviewer: Alexander T. Hunt, Office of Management and Budget, Room 10202, New Executive Office Building, Washington, DC 20503. (202) 395-7860.

Mary A. Able,
Departmental Reports, Management Officer.

[FR Doc. 02-15385 Filed 6-18-02; 8:45 am]

BILLING CODE 4830-01-P